DEPARTMENT OF COMMERCE

International Trade Administration

[A-821-817]

Notice of Decision of the Court of International Trade; Silicon Metal From the Russian Federation

ACTION: Notice of Decision of the Court of International Trade.

AGENCY: Import Administration, International Trade Administration, Department of Commerce.

EFFECTIVE DATE: December 14, 2005.

SUMMARY: On November 28, 2005, the United States Court of International Trade (“CIT”) issued an order sustaining the Department of Commerce's (“the Department”) Second Remand Results. See Final Results of Redetermination Pursuant to Court Remand, Globe Metallurgical, Inc. vs. United States, Consol. Ct. No. 03-00202 (October 21, 2005) (available at http://www.ia.ita.doc.gov) (“Second Remand Results”); see also, Globe Metallurgical, Inc. v. United States, Slip Op. 05-150 (CIT November 28, 2005) (“Globe Metallurgical III”). In the First Remand Results, the Department recalculated the antidumping margins for Bratsk Aluminum Smelter and Rual Trade Limited (collectively, “Bratsk”) and ZAO Kremny and SUAL-Kremny-Ural Ltd. (collectively, “Kremny”) to value the respondents' usage of recycled silicon metal sized zero to five millimeters. See Final Results of Redetermination Pursuant to Court Remand, Globe Metallurgical, Inc. v. United States, Consol. Ct. No. 03-00202 (January 5, 2005) (available at http://www.ia.ita.doc.gov) (“First Remand Results”). In the Second Remand Results, the Department recalculated the adverse facts available (“AFA”) portion of Kremny's antidumping duty margin using the revised antidumping duty margin for Bratsk calculated in the First Remand Results. Consistent with the decision of the United States Court of Appeals for the Federal Circuit (“Federal Circuit”) in Timken Co. v. United States, 893 F.2d 337 (Fed. Cir. 1990) (“Timken”), the Department is notifying the public that the Globe Metallurgical III decision is “not in harmony” with the Department's final determination.

FOR FURTHER INFORMATION CONTACT: Carrie Blozy at (202) 482-5403; AD/CVD Operations, Office 9, Import Administration, International Trade Administration, U.S. Department of Commerce, 1401 Constitution Avenue NW, Washington, DC 20230.

SUPPLEMENTARY INFORMATION:

Background

On February 11, 2003, the Department published its Amended Final Determination, covering the period of investigation (“POI”) from July 1, 2001, through December 31, 2001. See Notice of Final Determination of Sales at Less Than Fair Value: Silicon Metal From the Russian Federation, 68 FR 6885 (February 11, 2003) (“Final Determination”), as amended by Notice of Amended Final Determination of Sales at Less Than Fair Value: Silicon Metal From the Russian Federation, 68 FR 12037 (March 13, 2003) (“Amended Final Determination”). Petitioners and Bratsk contested various aspects of the Amended Final Determination.

The Court remanded to the Department two aspects of its Amended Final Determination for reconsideration: (1) with respect to the Department's decision not to use Russian values to value the factors of production and other expenses, the Court ordered the Department to either use Russian post-non-market economy (“NME”) values or explain why the market economy Russian values are not the best available information; and (2) with respect to the Department's treatment of silicon metal fines, the Court granted the Department's request to explain its exclusion of recycled silicon metal fines from the factor of production cost analysis. See Globe Metallurgical, Inc. v. United States, 350 F.Supp. 2d 1148 (CIT September 24, 2004) (“Globe Metallurgical I”). Subsequent to the Court's remand, Bratsk voluntarily dismissed its challenge of the Department's rejection of Russian post-NME values. Therefore this issue became moot.

In the Department's First Remand Results, the Department recalculated Bratsk's and Kremny's margins to value the usage of recycled silicon metal sized zero to five millimeters.

On July 27, 2005, the CIT issued its opinion on the Department's First Remand Results. See Globe Metallurgical, Inc. v. United States, Slip Op. 05-90 (CIT July 27, 2005) (“Globe Metallurgical II”). The CIT affirmed the Department's determination to include recycled silicon metal fines sized zero to five millimeters in each producer's factors of production cost analysis and affirmed the calculation of Bratsk's antidumping duty margin. However, the Court further remanded the case back to the Department and ordered the Department to either recalculate the AFA portion of Kremny's antidumping duty margin using the revised antidumping duty margin for Bratsk calculated in the Final Remand Results or explain the use of the Bratsk margin from the Amended Final Determination. The Department recalculated Kremny's antidumping duty margin using the antidumping duty margin for Bratsk calculated in the First Remand Results. On October 25, 2005, the Department filed its Second Remand Results. On November 28, 2005, the CIT sustained the Department's Second Remand Results in all respects. See Globe Metallurgical III.

Timken Notice

In its decision in Timken, the Federal Circuit held that, pursuant to 19 U.S.C. 1516a(e), the Department must publish notice of a decision of the CIT which is “not in harmony” with the Department's results. The CIT's decision in Globe Metallurgical III was not in harmony with the Department's final determination. Therefore, publication of this notice fulfills the obligation. The Department will issue revised cash deposit instructions effective the date of publication of this notice in the Federal Register if the CIT's decision is not appealed, or if it is affirmed on appeal.

Dated: December 7, 2005.
Joseph A. Spetrini,
Acting Assistant Secretary for Import Administration.

[FR Doc. E5-7343 Filed 12-13-05; 8:45 am]

BILLING CODE 3510-DS-S